DEPARTMENT OF THE INTERIOR

Bureau of Land Management

[A2407-014-004-065516, #O2509-014-004-125222]

Minerals Management: Annual Adjustment of Cost Recovery Fees

AGENCY: Bureau of Land Management, Interior.

ACTION: Notice of fee adjustments.

SUMMARY: The Bureau of Land Management (BLM) is adjusting the fixed fees set forth in the Department of the Interior's onshore mineral resources regulations for the processing of certain minerals program-related documents and actions.

DATES: The adjusted fees take effect on January 12, 2026.

FOR FURTHER INFORMATION CONTACT: John G. Ajak, Deputy Division Chief of Fluid Minerals, 505-549-9654, jajak@blm.gov; Indra Dahal, Deputy Division Chief, Division of Solid Minerals, 571-458-6637, idahal@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Independent Offices Appropriations Act of 1953, 31 U.S.C. 9701, and section 304 of the Federal Land Policy and Management Act of 1976, 43 U.S.C. 1734, authorize the BLM to charge fees for processing applications and other documents related to public lands. In 2005, the BLM published a final cost recovery rule (70 FR 58854) that established new fees or revised existing fees for processing documents related to its minerals program. This rule also established the method that the BLM uses to adjust those fees and services charges for inflation on an annual basis.

BLM regulations at 43 CFR 3000.120 provide that the BLM Director will post the fees on the BLM's web page (www.blm.gov) and publish a notice in the Federal Register announcing the fee adjustments by October 1 of each year to provide additional public notice. The new fees take effect each year on October 1. This is the 20th year that the BLM is adjusting its fees based upon inflation.

The fee adjustments are based on mathematical formulas that were established in the 2005 final cost recovery rule and, in the case of the Application for Permit to Drill fee, section 3021(b) of the National Defense Authorization Act of 2015. For more details on how the BLM calculates the fee increases, please refer to the BLM website.

Processing and Filing Fee Table
Document/action | FY 2026 fee
Oil & Gas (parts 3100, 3110, 3120, 3130, 3150, 3160, and 3180):
Competitive lease application | $3,175
Leasing and compensatory royalty agreements under right-of-way pursuant to subpart 3109. | 675
Lease consolidation | 590
Assignment and transfer of record title or operating rights | 120
Overriding royalty transfer, payment out of production | 15
Name change; corporate merger; sheriff's deed; dissolution of corporation, partnership, or trust; or transfer to heir/devisee | 280
Lease reinstatement, Class I | 1,290
Geophysical exploration permit application—all states | 1,180
Renewal of exploration permit—Alaska | 35
Final application for Federal unit agreement approval, Federal unit agreement expansion, and Federal subsurface gas storage application | 1,230
Designation of successor operator for all Federal agreements, except for contracted unit agreements that contain no Federal lands | 125
Geothermal (part 3200):
Noncompetitive lease application | 535
Competitive lease application | 205
Assignment and transfer of record title or operating rights | 120
Name change, corporate merger or transfer to heir/devisee | 280
Lease consolidation | 590
Lease reinstatement | 105
Nomination of lands | 150
plus per acre nomination fee | 0.14
Site license application | 80
Assignment or transfer of site license | 80
Coal (parts 3400, 3470):
License to mine application | 15
Exploration license application | 440
Lease or lease interest transfer | 90
Leasing of Solid Minerals Other Than Coal and Oil Shale (parts 3500, 3580):
Applications other than those listed below | 50
Prospecting permit application amendment | 90
Extension of prospecting permit | 145
Lease modification or fringe acreage lease | 40
Lease renewal | 685
Assignment, sublease, or transfer of operating rights | 40
Transfer of overriding royalty | 40
Use permit | 40
Shasta and Trinity hardrock mineral lease | 40
Renewal of existing sand and gravel lease in Nevada | 40
Public Law 359; Mining in Powersite Withdrawals: General (part 3730):
Notice of protest of placer mining operations | 15
Mining Law Administration (parts 3800, 3810, 3830, 3860, 3870):
Application to open lands to location | 15
Notice of location* | 25
Amendment of location | 15
Transfer of mining claim/site | 15
Recording an annual FLPMA filing | 15
Deferment of assessment work | 145
Recording a notice of intent to locate mining claims on Stockraising Homestead Act lands | 40
Mineral patent adjudication (more than 10 claims) | 4,010
(10 or fewer claims) | 2,005
Adverse claim | 145
Protest | 90
Oil Shale Management (parts 3900, 3910, 3930):
Exploration license application | 420
Application for assignment or sublease of record title or overriding royalty | 85
Onshore Oil and Gas Operations and Production (parts 3160, 3170):
Application for Permit to Drill | 12,850
* To record a mining claim or site location, this processing fee along with the initial maintenance fee and the one-time location fee required by statute and at 43 CFR part 3833 must be paid.

Tina Roberts-Ashby,
Acting Assistant Director, Office of Energy, Minerals, and Realty Management.

[FR Doc. 2026-00386 Filed 1-9-26; 8:45 am]

BILLING CODE 4331-27-P